DEPARTMENT OF THE INTERIOR

Bureau of Land Management

[LLNVB00000 L71220000 EX0000 LVTFF1206210 241A; NVN-090702; 13-08807; MO# 4500046118; TAS: 14X8069]

Notice of Intent To Prepare an Environmental Impact Statement for the Proposed Buffalo Valley Mine Project, Lander and Humboldt Counties, NV

AGENCY: Bureau of Land Management, Interior.

ACTION: Notice of intent.

SUMMARY: In compliance with the National Environmental Policy Act of 1969, as amended (NEPA), and the Federal Land Policy and Management Act of 1976, as amended, the Bureau of Land Management (BLM) Mount Lewis Field Office, Battle Mountain, Nevada, intends to prepare an Environmental Impact Statement (EIS) to analyze and disclose impacts associated with the Buffalo Valley Mine Project, a proposed open pit gold mine, mill, and associated facilities, located on public and private lands in Lander and Humboldt counties, Nevada, and by this notice is announcing the beginning of the scoping process to solicit public comments and identify issues.

DATES: This notice initiates the public scoping process for the EIS. Comments on issues may be submitted in writing until March 6, 2013. The date(s) and location(s) of any scoping meetings will be announced at least 15 days in advance through local media, newspapers, and the BLM Web site at: http://www.blm.gov/nv/st/en/fo/battle_mountain_field.html. In order to be considered during the preparation of the Draft EIS, all comments must be received prior to the close of the 30 day scoping period or 15 days after the last public meeting, whichever is later. The BLM will provide additional opportunities for public participation upon publication of the Draft EIS.

ADDRESSES: You may submit comments related to the proposed Buffalo Valley Mine Project by any of the following methods:

• Web site: http://www.blm.gov/nv/st/en/fo/battle_mountain_field.html.

• Email: BLM_NV_BMDO_BuffaloValleyMineProject@blm.gov.

• Fax: 775-635-4034.

• Mail: BLM, Mount Lewis Field Office, 50 Bastian Road, Battle Mountain, NV 89820.

Documents pertinent to this proposal may be examined at the Mount Lewis Field Office.

FOR FURTHER INFORMATION CONTACT: For further information and/or to have your name added to our mailing list, contact Andrea Dolbear, Environmental Protection Specialist, telephone 775-635-4017; address,50 Bastian Road, Battle Mountain, NV 89820; email asdolbear@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Newmont Mining Corporation, in a joint venture with Fairmile Gold, proposes to construct, operate, reclaim, and close an open pit, heap leach, precious-metal, mining operation known as the Buffalo Valley Mine Project. The proposed project would be located 20 miles southwest of Battle Mountain, Nevada, and 12 miles northwest of Newmont's Phoenix Mine in Lander and Humboldt counties. The legal land description for the proposed project area is:

Mount Diablo Meridian

T. 31 N., R. 42 E.,

Secs 3, 4, 5, and 6;

T. 32 N., R. 42 E.,

Secs 27, 28, 29, 30, 31, 32, 33, and 34.

The area described contains 5,968 acres, more or less, in Lander and Humboldt counties, Nevada.

The proposed project area would be comprised of approximately 5,968 acres, of which 3,662 acres are public land administered by the BLM. Approximately 2,274 of the 3,662 acres are in Lander County and managed by the BLM Mount Lewis Field Office and approximately 1,388 acres are in Humboldt County and managed by the BLM Winnemucca District, Humboldt River Field Office. The Battle Mountain District, Mount Lewis Field Office will manage all of the public lands on this proposed project. Approximately 2,306 acres within the proposed project area are private land controlled by Newmont.

The Buffalo Valley Mine Project is in conformance with the 1986 Shoshone-Eureka Resource Area Resource Management Plan (RMP) and Record of Decision (ROD). The ROD states that all public land in the planning areas will be open for mining and prospecting unless withdrawn or restricted from mineral entry. One of the objectives of the RMP is to make available and encourage development of mineral resources to meet the national, regional, and local needs consistent with national objectives, for an adequate supply of minerals. The proposed project also conforms to the BLM Winnemucca District, 1982 Sonoma-Gerlach Management Framework Plan at Section .42 Minerals, Objective M1 to make all public lands and other federally owned minerals available for the exploration and development of mineral and material commodities.

The proposed project is estimated to produce approximately 40 million tons of ore grade material from an estimated 226 million tons of material to be extracted using conventional open pit mining methods of drilling and blasting. The proposed project would consist of the following components: 2 open pits; mine dewatering system; 3 waste rock storage areas; crushing system; heap leach pad; process facility; high-grade ore stockpile; process ponds; borrow pit; storm water pond and diversion ditches; small shop/office and maintenance facility; fuel facility; access and haul roads; top soil (growth media) stockpiles; powerline; water supply well; and exploration.

The Buffalo Valley Mine Road is a county road located in both Lander and Humboldt counties on the east side of Buffalo Valley. It bisects the proposed project area and would be rerouted to the west around the proposed project facilities. The plan of operation is to haul ore for crushing and leaching with a dilute cyanide solution. The life of the mine would be approximately 10 years. Newmont anticipates a workforce of 120 employees during the production phase of the mine.

An interdisciplinary approach will be used to develop the EIS in order to consider the variety of resource issues and concerns identified during the scoping period. Potential direct, indirect, residual, and cumulative impacts from the proposed action will be analyzed in the EIS.

The purpose of the public scoping process is to determine relevant issues that will influence the scope of the environmental analysis, including potential alternatives, and the extent to which those issues and impacts will be analyzed in the EIS. At present, the BLM has identified the following preliminary issues: pit lake formation post closure, mine dewatering, wildlife, and socioeconomic concerns.

The BLM will follow the NEPA public participation requirements to satisfy the public involvement requirements under Section 106 of the National Historic Preservation Act (NHPA) (16 U.S.C. 470(f)) pursuant to 36 CFR 800.2(d)(3). Any information about historic and cultural resources within the area potentially affected by the proposed project will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed Buffalo Valley Mine Project are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7

Christopher J. Cook,
Field Manager, Mount Lewis Field Office.

[FR Doc. 2013-02361 Filed 2-1-13; 8:45 am]

BILLING CODE 4310-HC-P